DEPARTMENT OF DEFENSE

Office of the Secretary

[No. DoD-2006-OS-0212]

Submission for OMB Review; Comment Request

ACTION: Notice.

The Department of Defense has submitted to OMB for clearance, the following proposal for collection of information under the provisions of the Paperwork Reduction Act (44 U.S.C. Chapter 35).

Dates: Consideration will be given to all comments received by May 30, 2007.

Title and OMB Number: “Defense Security Service Industrial Security Review Data” and “Defense Security Service Industrial Security Facility Clearance Survey Data,” OMB Control Number 0704-0427.

Type of Request: Extension.

Number of Respondents: Industrial Security Review Data—12,111 respondents. Industrial Security Facility Clearance Survey Data—1,761 respondents.

Responses per Respondent: 1.

Annual Responses: Industrial Security Review Data—12,111 respondents. Industrial Security Facility Clearance Survey Data—1,761 respondents.

Average Burden per Response: Industrial Security Review data.

Possessors of classified: 5.3 hours.

Non-Possessors of classified: 2 hours.

Industrial Security Facility Clearance Survey Data: 2 hours.

Annual Burden Hours: Industrial Security Review Data—39,999 hours.

Industrial Security Facility Clearance Survey Data—3,522 hours.

Needs and Uses: The conduct of an Industrial Security Review and/or Industrial Security Facility Security Survey assists in determining whether a contractor is eligible to establish its facility security clearance and/or retain its participation in the National Industrial Security Program (NISP). It is also the basis for verifying whether contractors are appropriately implementing NISP security requirements. These requirements are necessary in order to preserve and maintain the security of the United States through establishing standards to prevent the improper disclosure of classified information.

In accordance with Department of Defense (DoD), 5220.22-R, “Industrial Security Regulation,” Defense Security Service is required to maintain a record of the results of surveys and security reviews. Documentation for each survey and/or security review will be compiled addressing areas applicable to the contractor's security program. Portions of the data collected will be stored in databases. All data collected will be handled and marked, “For Official Use Only.”

Affected Public: Business or other for-profit; Not-for-profit institutions.

Frequency: On Occasion.

Respondent's Obligation: Required to obtain or retain benefits.

OMB Desk Officer: Ms. Hillary Jaffe.

Written comments and recommendations on the proposed information collection should be sent to Ms. Jaffe at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: April 23, 2007.
Patricia L. Toppings,
Alternate OSD Federal Register Liaison Officer, Department of Defense.

[FR Doc. 07-2091 Filed 4-27-07; 8:45 am]

BILLING CODE 5001-06-M